DEPARTMENT OF AGRICULTURE

Food and Nutrition Service

Agency Information Collection Activities: Proposed Collection; Comment Request: Food Stamp Program Pre-Screening Tool Survey

AGENCY: Food and Nutrition Service, USDA.

ACTION: Notice.

SUMMARY: In accordance with the Paperwork Reduction Act of 1995, this notice invites the general public and other public agencies to comment on the proposed revision of this currently approved collection. The information collection involves the use of a Web-based pre-screening tool for the general public to use to determine potential eligibility for Food Stamp Program benefits.

DATES: Written comments must be submitted on or before August 15, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including use of appropriate, automated, electronic, mechanical, or other technological collection techniques or other forms of information technology.

Comments may be sent to Patrick Waldron, Branch Chief, Program Development Division, Food Stamp Program, Food and Nutrition Service, U.S. Department of Agriculture, 3101 Park Center Drive, Room 810, Alexandria, VA 22302. Comments may also be submitted via fax to the attention of Patrick Waldron at 703-305-2486 or via e-mail to Patrick.Waldron@fns.usda.gov.

All written comments will be open for public inspection at the office of the Food and Nutrition Service during regular business hours (8:30 a.m. to 5 p.m., Monday through Friday) at 3101 Park Center Drive, Alexandria, Virginia 22302, Room 810.

All responses to this notice will be summarized and included in the request for Office of Management and Budget approval of the information collection. All comments will become a matter of public record.

FOR FURTHER INFORMATION CONTACT: Requests for additional information should be directed to Patrick Waldron at (703) 305-2495.

SUPPLEMENTARY INFORMATION: Title: Food Stamp Program Pre-Screening Tool.

OMB Number: 0584-0519.

Expiration Date: August 31, 2008.

Type of Request: Revision of a currently approved collection.

Abstract: In June 2003, the Food and Nutrition Service (FNS) deployed an interactive Web-based food stamp pre-screening tool that can be utilized by the general public to determine potential Food Stamp Program eligibility. A previous notice was published in the Federal Register on May 31, 2005 at 70 FR 30922 (2005). The pre-screening tool helps the users determine their eligibility for food stamps. Once the user enters household size, income, expenses and resource information, the tool will calculate and provide the user with an estimated range of benefits that the household may be eligible to receive. Since food stamp eligibility and benefit amount may vary by location, FNS makes it clear that the tool is only an estimator, and the household will need to contact the local agency to determine actual eligibility and the appropriate benefit amount. Other data collected are:

• ID (Each entry is assigned a unique identifier);

• State: State or territory in which the user resides;

• Number of Children: Number of children in the household;

• Number of Elderly: Number of elderly members in the household;

• Migrant Workers: Is anyone in the household a seasonal or migrant farm worker;

• Homeless: Is the household homeless or living in a shelter;

• User Type: Who is using the tool;

• User Referral: How the user heard about the tool;

• Amount: If user was eligible to receive benefits and if so the estimated range of benefits.

Although the tool also requests the name and age of the user, FNS does not retain this information or any other specific information like social security numbers, birthdays, etc. about the household itself in the tool. However, the system does request the following information during the initial process in which the user enters data:

• Whether the user is using the tool for personal reasons or on behalf of others; and

• If they are using it on behalf of others, the user will be asked to identify him/herself (e.g., relative of a person in need, advocacy organization, faith-based group, etc.) using a drop down menu.

Once the user logs out of the system, none of the user-provided information is retained by FNS.

The survey component of the tool was removed since the program analysis of this data is no longer necessary. Thus, the projected annual burden hours of 48,183 are reduced by 4,183.

Estimate of Burden

Pre-Screening Tool Component Burden

Affected Public: Individuals and Households.

Estimated Number of Respondents: 264,000 per year.

Number of Responses per Respondent: 1.

Total Number of Annual Responses: 264,000.

Estimated Time per Response: 10 minutes.

Estimated Total Annual Burden: 44,000 hours.

Estimated Total Pre-Screening Tool Annual Burden = 44,000.

Dated: June 10, 2008.
Roberto Salazar,
Administrator, Food and Nutrition Service.

[FR Doc. E8-13410 Filed 6-13-08; 8:45 am]

BILLING CODE 3410-30-P